CONSUMER PRODUCT SAFETY COMMISSION

Sunshine Act Meetings

Time and Date: Wednesday, April 28, 2010; 2 p.m.-4 p.m.

Place: Hearing Room 420, Bethesda Towers, 4330 East-West Highway, Bethesda, Maryland.

Status: Closed to the public.

Matters To Be Considered

Compliance Weekly Report—Commission Briefing

The Commission staff will brief the Commission on the status of compliance matters.

For a recorded message containing the latest agenda information, call (301) 504-7948.

Contact Person for More Information: Todd A. Stevenson, Office of the Secretary, U.S. Consumer Product Safety Commission, 4330 East-West Highway, Bethesda, MD 20814, (301) 504-7923.

Dated: April 20, 2010.
Todd A. Stevenson,
Secretary.

[FR Doc. 2010-9464 Filed 4-20-10; 4:15 pm]

BILLING CODE 6355-01-P